DEPARTMENT OF TRANSPORTATION

Surface Transportation Board

[STB Finance Docket No. 34504]

Union Pacific Railroad Company—Lease and Operation Exemption—The Burlington Northern and Santa Fe Railway Company

AGENCY: Surface Transportation Board, DOT.

ACTION: Petition for exemption.

SUMMARY: The Board grants an exemption under 49 U.S.C. 10502, from the prior approval requirements of 49 U.S.C. 11323-24, for Union Pacific Railroad Company to lease and operate over 5.39 miles of The Burlington Northern and Santa Fe Railway Company (BNSF) line extending from BNSF milepost 474.01, near Marion, AR, to BNSF milepost 479.4, near West Memphis, AR.

DATES: This exemption is effective on September 25, 2004. Petitions to stay must be filed by September 7, 2004. Petitions to reopen must be filed by September 15, 2004.

ADDRESSES: An original and 10 copies of all pleadings referring to STB Finance Docket No. 34504 must be filed with the Surface Transportation Board, 1925 K Street, NW., Washington, DC 20423-0001. In addition, a copy of all pleadings must be served on petitioner's representative: Robert T. Opal, General Commerce Counsel, 1416 Dodge Street, Room 830, Omaha, NE 68179-0001.

FOR FURTHER INFORMATION CONTACT: John Sado, (202) 565-1661. [Assistance for the hearing impaired is available through the Federal Information Relay Service (FIRS) at 1-800-877-8339.]

SUPPLEMENTARY INFORMATION: Additional information is contained in the Board's decision. Copies of the decision may be purchased from ASAP Document Solutions by calling (301) 577-2600 (assistance for the hearing impaired is available through FIRS at 1-800-877-8339) or by visiting 9332 Annapolis Rd., Suite 103, Lanham, MD 20706.

Board decisions and notices are available on our Web site at http://www.stb.dot.gov.

Decided: August 26, 2004.
By the Board, Chairman Nober, Vice Chairman Mulvey, and Commissioner Buttrey.
Vernon A. Williams,
Secretary.

[FR Doc. 04-19926 Filed 8-31-04; 8:45 am]

BILLING CODE 4915-01-P